DEPARTMENT OF COMMERCE

International Trade Administration

[A-570-952]

Narrow Woven Ribbons with Woven Selvedge from the People's Republic of China: Amended Final Determination of Sales at Less Than Fair Value

AGENCY: Import Administration, International Trade Administration, Department of Commerce.

EFFECTIVE DATE: August 24, 2010.

FOR FURTHER INFORMATION CONTACT: Karine Gziryan, AD/CVD Operations, Office 4, Import Administration, International Trade Administration, U.S. Department of Commerce, 14th Street and Constitution Avenue, NW, Washington, DC 20230; telephone: (202) 482-4081.

SUPPLEMENTARY INFORMATION:

Amendment to the Final Determination

In accordance with sections 735(d) and 777(i)(1) of the Tariff Act of 1930, as amended, (“the Act”), on July 19, 2010, the Department of Commerce ( “the Department”) published the final determination of sales at less than fair value (“LTFV”) in the antidumping investigation of narrow woven ribbons with woven selvedge (“narrow woven ribbons”) from the People's Republic of China (“PRC”). See Narrow Woven Ribbons With Woven Selvedge From the People's Republic of China: Final Determination of Sales at Less Than Fair Value, 75 FR 41808 (July 19, 2010) (“Final Determination”).

On July 19, 2010, Ningbo MH Industry Co. Ltd. (“Ningbo MH”) filed a timely allegation that the Department made a ministerial error in the Final Determination, specifically, that the Department misidentified its producer. Ningbo MH thus requested, pursuant to 19 CFR 351.224, that the Department amend the Final Determination with the correct name of its producer. Additionally, on July 20, 2010, Yangzhou Bestpak Gifts & Crafts Co., Ltd. (“Bestpak”) filed a timely allegation that the Department made a ministerial error in the Final Determination, specifically, that the Department misidentified the PRC-wide rate used in calculating the separate rate. Ningbo MH thus requested, pursuant to 19 CFR 351.224, that the Department correct the alleged ministerial error by recalculating the separate rate. No other parties in this proceeding submitted comments on the Department's final margin calculations.

A ministerial error is defined as an error “in addition, subtraction, or other arithmetic function, clerical error resulting from inaccurate copying, duplication, or the like, and any other type of unintentional error which the Department considers ministerial.” See section 735(e) of the Act; see also 19 CFR 351.224(f).

After analyzing Bestpak's comments, we have determined, in accordance with section 735(e) of the Act and 19 CFR 351.224(e), that we made an inadvertent ministerial error by inaccurately listing the PRC-wide entity rate used in the Department's Preliminary Determination.¹ However, the appropriate correction for this error is to amend the Corroboration section of the Final Determination, as detailed below, not recalculation of the separate rate. For a detailed discussion of this ministerial error, see Memorandum to Edward C. Yang, Acting Deputy Assistant Secretary, for Antidumping and Countervailing Duty Operations, through Abdelali Elouaradia, Director, AD/CVD Operations, Office 4, concerning, “Ministerial Errors Memorandum, Amended Final Determination of Sales at Less Than Fair Value: Narrow Woven Ribbons with Woven Selvedge from the People's Republic of China,” dated August 12, 2010 (“Ministerial Error Memo”).

¹ See Narrow Woven Ribbons with Woven Selvedge from the People's Republic of China: Preliminary Determination of Sales at Less Than Fair Value and Postponement of Final Determination, 75 FR 7244 (February 18, 2010) (“Preliminary Determination”).

Additionally, after analyzing Ningbo MH's comments, we have determined, in accordance with section 735(e) of the Act and 19 CFR 351.224(e), that we did not make a ministerial error with respect to Ningbo MH's producer's name. For a detailed discussion of our analysis, see Ministerial Error Memo.

Therefore, in accordance with section 735(e) of the Act, we are amending the final determination of sales at LTFV in the antidumping duty investigation of narrow woven ribbons from the PRC. After correcting this ministerial error, the final text of the Final Determination Corroboration section should read as follows:

Section 776(c) of the Act provides that, when the Department relies on secondary information rather than on information obtained in the course of an investigation as facts available, it must, to the extent practicable, corroborate that information from independent sources reasonably at its disposal. Secondary information is described as “information derived from the petition that gave rise to the investigation or review, the final determination concerning merchandise subject to this investigation, or any previous review under section 751 concerning the merchandise subject to this investigation.”² To “corroborate” means that the Department will satisfy itself that the secondary information to be used has probative value. Independent sources used to corroborate may include, for example, published price lists, official import statistics and customs data, and information obtained from interested parties during the particular investigation. To corroborate secondary information, the Department will, to the extent practicable, examine the reliability and relevance of the information used.³

² See Final Determination of Sales at Less Than Fair Value: Sodium Hexametaphosphate From the People's Republic of China, 73 FR 6479, 6481 (February 4, 2008), quoting SAA at 870.

³ See Tapered Roller Bearings and Parts Thereof, Finished and Unfinished, From Japan, and Tapered Roller Bearings, Four Inches or Less in Outside Diameter, and Components Thereof, From Japan; Preliminary Results of Antidumping Duty Administrative Reviews and Partial Termination of Administrative Reviews, 61 FR 57391, 57392 (November 6, 1996), unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825 (March 13, 1997).

The adverse facts available (“AFA”) rate that the Department used is drawn from the petition, as adjusted to reflect the United States Court of Appeals for the Federal Circuit (“CAFC”)'s decision in Dorbest. See Final Determination, Issues and Decision Memorandum at Comment 1. Petitioner's methodology for calculating the U.S. price and normal value (“NV”) in the petition is discussed in the Initiation Notice.⁴ In the Preliminary Determination, we assigned to the PRC-wide entity the margin alleged in the petition, i.e., 231.40 percent.⁵ For the final determination, we have assigned to the PRC-wide entity the rate of 247.65 percent.⁶ To corroborate the AFA margin that we have selected, we compared it to the model-specific margins we found for the participating mandatory respondent, Yama. We found that the margin of 247.65 percent has probative value because it is in the range of Yama's model-specific margins.⁷ Accordingly, we find that the rate of 247.65 percent is corroborated within the meaning of section 776(c) of the Act.⁸

⁴ See Narrow Woven Ribbons with Woven Selvedge from the People's Republic of China and Taiwan: Initiation of Antidumping Duty Investigations, 74 FR 39291 (August 6, 2009) (“Initiation Notice”)

⁵ See Preliminary Determination, 75 FR at 7251.

⁶ See Final Determination, Issues and Decisions Memorandum at Comment 1. See also July 12, 2010 Memorandum to the File from Karine Gziryan, International Trade Analyst, AD/CVD Operations, Office 4, “Antidumping Investigation of Narrow Woven Ribbons with Woven Selvedge from the People's Republic of China: Proprietary Memorandum regarding Corroboration”.

⁷ See Final Analysis Memorandum for Yama Ribbons and Bows Co. Ltd., dated July 12, 2010.

⁸ See Final Determination, Issues and Decision Memorandum at Comment 12; see also July 12, 2010 Memorandum to the File from Karine Gziryan, International Trade Analyst, AD/CVD Operations, Office 4, “Antidumping Investigation of Narrow Woven Ribbons with Woven Selvedge from the People's Republic of China: Proprietary Memorandum regarding Corroboration”.

Continuation of Suspension of Liquidation:

In accordance with section 735(c)(1)(B) of the Act, the Department has instructed U.S. Customs and Border Protection (“CBP”) to continue to suspend liquidation of all entries of narrow woven ribbons from the PRC, as described in the “Scope of Investigation” section, entered, or withdrawn from warehouse, for consumption on or after, February 18, 2010, the date of publication of the Preliminary Determination in the Federal Register. See Preliminary Determination. The Department has instructed CBP to require a cash deposit or the posting of a bond equal to the weighted-average dumping margin amount by which the normal value exceeds U.S. price.

This determination is issued and published in accordance with sections 735(d) and 777(i)(1) of the Act and 19 CFR 351.224(e).

Dated: August 17, 2010.
Ronald K. Lorentzen,
Deputy Assistant Secretary for Import Administration.

[FR Doc. 2010-21042 Filed 8-23-10; 8:45 am]

BILLING CODE 3510-DS-S